DEPARTMENT OF HEALTH AND HUMAN SERVICES

Centers for Medicare & Medicaid Services

[Document Identifier: CMS-R-96, CMS-10168, CMS-R-143]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Emergency and Foreign Hospital Services—Beneficiary Statement of Canadian/Mexican Travel Claims and Supporting Regulations in 42 CFR 424.123; Use: The emergency services furnished to a beneficiary outside the U.S. are covered under Medicare if the foreign hospital meets the conditions for a domestic nonparticipating hospital in addition to one of the following: (1) If the emergency is considered to have occurred within the U.S. and the reason for departure for the U.S. was to obtain treatment; (2) if the emergency occurred in Canada while the beneficiary was traveling between Alaska and another State; (3) if the Canadian or Mexican hospital is closer, more accessible or adequately equipped to handle the illness or injury; or (4) services were rendered aboard a ship in an American port or on the same day the ship arrived or departed from that port. Form Number: CMS-R-96 (OMB#: 0938-0484); Frequency: Reporting—On occasion; Affected Public: Individuals or households, business or other for-profit, not-for-profit institutions; Number of Respondents: 1,100; Total Annual Responses: 1,100; Total Annual Hours: 275.

2. Type of Information Collection Request: Extension of a currently approved collection; Title of Information Collection: Medicare Program: Complex Medical Review; Use: Complex medical review involves the application of clinical judgment by a licensed medical professional in order to evaluate medical records to determine whether an item or service is covered, and is reasonable and necessary. The information required under this collection is requested by Medicare contractors, and is requested of providers or suppliers submitting claims for payment from the Medicare program when data analysis indicates aberrant billing patterns which may present a vulnerability to the Medicare program. Form Number: CMS-10168 (OMB#: 0938-0969); Frequency: Recordkeeping and Reporting—As requested; Affected Public: Business or other for-profit and not-for-profit institutions; Number of Respondents: 1,169,683; Total Annual Responses: 2,900,000; Total Annual Hours: 966,666.

3. Type of Information Collection Request: Extension of a currently approved collection; Title of Information Collection: Medicare Physician Fee Schedule Geographic Practice Expense Index (GPCI); Use: This information collection is a survey of State insurance commissioners and malpractice insurers to acquire premium data for use in computing the malpractice component of the geographic practice cost index, a component of the geographic cost index as set forth in the Omnibus Reconciliation Act of 1989. The data collected in this information collection request will be used by CMS staff and outside contractors to update the Medicare physician fee schedule geographic practice expense index (MGPCI), the malpractice relative value units (MRVUs), and to supplement the updating of the malpractice component of the Medicare Economic Index (MEI). The MGPCI is one of the components of the GPCI, the others being physician work (net income), employee wages, office rents, medical equipment and supplies, and miscellaneous expenses. The MRVUs are one of the three components of the fee schedule, the others being physician work RVUs and practice expense RVUs. The GPCIs and fee schedule RVUs also used by other Federal agencies such as the Veteran's Administration and the Department of Labor. Form Number: CMS-R-143 (OMB#: 0938-0575); Frequency: Reporting—Every three years; Affected Public: State, Local or Tribal governments, Business or other for-profit and not-for-profit institutions; Number of Respondents: 150; Total Annual Responses: 50; Total Annual Hours: 150.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on August 8, 2006.

CMS, Office of Strategic Operations and Regulatory Affairs, Division of Regulations Development—B, Attention: William N. Parham, III, Room C4-26-05, 7500 Security Boulevard, Baltimore, Maryland 21244-1850.

Dated: June 1, 2006.
Michelle Shortt,
Director, Regulations Development Group, Office of Strategic Operations and Regulatory Affairs.

[FR Doc. E6-8933 Filed 6-8-06; 8:45 am]

BILLING CODE 4120-01-P